DEPARTMENT OF DEFENSE

Department of the Air Force

Privacy Act of 1974; System of Records

AGENCY: Department of the Air Force, DoD.

ACTION: Notice to alter a system of records.

SUMMARY: The Department of the Air Force proposes to alter a system of records notice in its inventory of record systems subject to the Privacy Act of 1974 (5 U.S.C. 552a), as amended. The alteration adds a routine use to permit disclosure of information to the National Academy of Sciences.

DATES: This action will be effective on November 13, 2000 unless comments are received that would result in a contrary determination.

ADDRESSES: Send comments to the Air Force Access Programs Manager, Headquarters, Air Force Communications and Information Center/ITC, 1250 Air Force Pentagon, Washington, DC 20330-1250.

FOR FURTHER INFORMATION CONTACT: Mrs. Anne Rollins at (703) 588-6187.

SUPPLEMENTARY INFORMATION: The Department of the Air Force notices for records systems subject to the Privacy Act of 1974 (5 U.S.C. 552a), as amended, have been published in the Federal Register and are available from the address above.

The proposed system report, as required by 5 U.S.C. 552a(r) of the Privacy Act was submitted on September 25, 2000, to the House Committee on Government Reform, the Senate Committee on Governmental Affairs, and the Office of Management and Budget (OMB) pursuant to paragraph 4c of Appendix I to OMB Circular No. A-130, “Federal Agency Responsibilities for Maintaining Records About Individuals,” dated February 8, 1996, (61 FR 6427, February 20, 1996).

Dated: October 5, 2000.
L.M. Bynum,
Alternate OSD Federal Register Liaison Officer, Department of Defense.

F036 AF PC C

System name:

Military Personnel Records System (June 11, 1997, 62 FR 31793).

Changes:

* * * * *

Routine uses of records maintained in the system, including categories of users and the purposes of such uses: Add a new paragraph as follows ‘To Federal agencies, their contractors and grantees, and to private organizations, such as the National Academy of Sciences, for the purposes of conducting personnel and/or health-related research in the interest of the Federal government and the public. When not considered mandatory, the names and other identifying data will be eliminated from records used for such research studies.’

* * * * *

F036 AF PC C

System name:

Military Personnel Records System.

System location:

Primary locations: Headquarters United States Air Force, 1040 Air Force Pentagon, Washington, DC 20330-1040.

Headquarters Air Force Personnel Center, 550 C Street W, Randolph Air Force Base, TX 78150-4703.

Air Reserve Personnel Center, 6760 East Irvington Place 4000, Denver, CO 80280-4000.

National Personnel Records Center, Military Personnel records, 9700 Page Boulevard, St. Louis, MO 63132-5100.

Headquarters of major commands and field operating agencies; consolidated base personnel offices; State Adjutant General Office of each respective state, District of Columbia and Commonwealth of Puerto Rico, and Air Force Reserve and Air National Guard units. Official mailing addresses are published as an appendix to the Air Force compilation of records systems notices.

Secondary locations: Officer Correspondence and Miscellaneous Document Group for active duty officers at Headquarters Air Force Personnel Center (HQ AFPC), and at Headquarters, United States Air Force (HQ USAF); Officer Selection Record Group (OSRGp) at HQ USAF, General Officer Group and at HQ USAF and HQ AFPC Air Force Colonel's Group; retired general officers Master Personnel Record Group (MPerRGp) at AFPC; Officer Command Selection Record Group (OCSRGp) at the respective Air Force base of assignment servicing Military Personnel Flight (MPF), and respective Air Force major command; Air Force active duty enlisted personnel MPerRGp and senior NCO selection folder at AFPC; Field Personnel Records Group (FPerRGp) at the respective unit of assignment or servicing MPF or Consolidated Reserve Personnel Office (CRPO); personnel in Temporary Disability Retired List, Missing in Action (MIA), Prisoner of War (POW), Dropped From Rolls status MPerGp at AFPC; Reserve officers MPerRGp at Air Reserve Personnel Center (ARPC); Reserve airmen MPerRGp at ARPC and FPerRGp at the respective unit of assignment or servicing MPF/CRPO; United States Air National Guard (ANGUS) officers MPerRGp at ARPC, OCSRGp at the respective State Adjutant General Office, and FPerRGp at the respective unit of assignment; ANGUS airmen MPerRGp at the respective State Adjutant General Office and FPerRGp at the respective unit of assignment; retired and discharged Air Force military personnel MPerRGp at National Personnel Records Center; and Air Force Academy cadets MPerRGp at unit of assignment MPF.

Categories of individuals covered by the system:

Air Force active duty military, Air Force Reserve and Air National Guard personnel.

Categories of records in the system:

System contains substantiating documents such as forms, certificates, administrative orders and correspondence pertaining to appointment as a commissioned officer, warrant officer, Regular AF, AF Reserve or ANGUS, enlistment/reenlistment/extension of enlistment, assignment, Permanent Change of Station, Temporary Duty (TDY), promotion and demotion; identification card requests; casualty; duty status changes—Absent Without Leave/MIA/POW/Missing/Deserter; military test administration/results; service dates; separation; discharge; retirement; security; training; Professional Military Education (PME); On-The-Job Training; Technical, General Military Training; commissioning; driver; academic education; performance/effectiveness reports; unfavorable communications in the OSRGp; records corrections; formal/informal medical or dental treatment/examination; flying/rated status administration; extended active duty; emergency data; line of duty determinations; human/personnel reliability; career counseling; records transmittal; AF reserve administration; Air National Guard administration; board proceedings; personnel history statements; Veterans Administration compensations; disciplinary actions; record extracts; locator information; personal clothing/equipment items; passport; classification; grade data; Career Reserve applications/cancellations; traffic safety; Unit Military Training; travel voucher for TDY to Republic of Vietnam; dependent data; professional achievements; Geneva Convention card; Federal insurance; travel and duty restrictions; Conscientious Objector status; decorations and awards; badges; Favorable Communications (colonels only); Inter-Service transfers; pay and allowances; combat duty; leave; photographs, and Personnel Data System products.

Authority for maintenance of the system:

10 U.S.C. 8013, Secretary of the Air Force; as implemented by Air Force Instruction 36-2608, and E.O. 9397 (SSN).

Purpose(s):

Military personnel records are used at all levels of Air Force personnel management within the agency for actions/processes related to procurement, education and training, classification, assignment, career development, evaluation, promotion, compensation, sustentation, separation and retirement.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

Records may be disclosed to the Department of Veterans Affairs for research, processing and adjudication of claims, and providing medical care.

To dependents and survivors for determination of eligibility for identification card privileges.

To the Civilian Health and Medical Program of the Uniformed Services (CHAMPUS) for determination of eligibility and benefits.

To local Immigration/Naturalization Office for accountability and audit purposes.

To State Unemployment Compensation offices for verification of military service related information for unemployment compensation claims; Respective local state government offices for verification of Vietnam ‘State Bonus’ eligibility.

To the Office of Personnel Management for verification of military service for benefits, leave, or Reduction in Force purposes, and to establish Civil Service employee tenure and leave accrual rate.

To the Social Security Administration to substantiate applicant's credit for social security compensation; Local state office for verification of military service relative to the Soldiers and Sailors Civil Relief Act. Information as to name, rank, Social Security Number, salary, present and past duty assignment, future assignments that have been finalized, and office phone number may be provided to military financial institutions who provide services to DOD personnel. For personnel separated, discharged or retired from the Air Force, information as to last known address may be provided to the military financial institutions upon certification by a financial institution officer that the facility has a dishonored check or defaulted loan.

To the Selective Service Agencies for computation of service obligation. To the American National Red Cross for emergency assistance to military members, dependents, relatives or other persons if conditions are compelling.

To the Department of Labor for claims of civilian employees formerly in military service, verification of service-related information for unemployment compensation claims, investigations of possible violations of labor laws and for pre-employment investigations.

To the Armed Forces Retirement Home to determine eligibility. To Federal agencies, their contractors and grantees, and to private organizations, such as the National Academy of Sciences, for the purposes of conducting personnel and/or health-related research in the interest of the Federal government and the public. When not considered mandatory, the names and other identifying data will be eliminated from records used for such research studies.

The DoD ‘Blanket Routine Uses’ published at the beginning of the Air Force's compilation of systems of records notices apply to this system.

Policies and practices for storing, retrieving, accessing, retaining, and disposing of records in the system:

Storage:

Maintained in visible file folders/binders, cabinets and on computer and computer output products.

Retrievability:

Information in the system is retrieved by last name, first name, middle initial and Social Security Number.

Records stored at National Personnel Records Center are retrieved by registry number, last name, first name, middle initial and Social Security Number.

Safeguards:

Records are accessed by person(s) responsible for servicing the records system in performance of their official duties and by authorized personnel who are properly screened and cleared for need-to-know. Records stored in locked room, cabinets, and in computer storage devices protected by computer system software.

Retention and disposal:

Those documents designated as temporary in the prescribing directive remain in the records until their obsolescence (superseded, member terminates status, or retires) when they are removed and provided to the individual. Unfavorable communications in the OSRGp are transferred to Air Reserve Component and retained for one year following an officer's termination of status, or destroyed if officer retires or dies. Those documents designated as permanent remain in the military personnel records system permanently and are retired with the master personnel record group.

System manager(s) and address:

Commander, Headquarters Air Force Military Personnel Center, 550 C Street W, Randolph Air Force Base, TX 78150-4703.

Notification procedure:

Individuals seeking to determine whether this system of records contains information on themselves should address written inquiries to the Commander, Headquarters Air Force Military Personnel Center, 550 C Street W, Randolph Air Force Base, TX 78150-4703.

Individuals may also appear in person at the responsible official's office or the respective repository for records for personnel in a particular category during normal duty hours any day except Saturday, Sunday or national and local holidays. The Saturday and Sunday exception does not apply to Reserve and National Guard units during periods of training. The system manager has the right to waive these requirements for personnel located in areas designated as Hostile Fire Pay areas. Official mailing addresses are published as an appendix to the Air Force's compilation of systems of records notices.

Record access procedures:

Individuals seeking to access records about themselves contained in this system should address written requests to the Commander, Headquarters Air Force Military Personnel Center, 550 C Street W, Randolph Air Force Base, TX 78150-4703.

Individuals may also appear in person at the responsible official's office or the respective repository for records for personnel in a particular category during normal duty hours any day except Saturday, Sunday or national and local holidays. The Saturday and Sunday exception does not apply to Reserve and National Guard units during periods of training. The system manager has the right to waive these requirements for personnel located in areas designated as Hostile Fire Pay areas. Official mailing addresses are published as an appendix to the Air Force's compilation of systems of records notices.

Contesting record procedures:

The Air Force rules for accessing records, and for contesting contents and appealing initial agency determinations are published in Air Force Instruction 37-132; 32 CFR part 806b; or may be obtained from the system manager.

Record source categories:

Information is obtained from the subject of the file, supervisors, correspondence generated within the agency in the conduct of official business, educational institutions, and civil authorities.

Exemptions claimed for the system:

None.

[FR Doc. 00-26255 Filed 10-12-00; 8:45 am]

BILLING CODE 5001-10-P